DEPARTMENT OF THE INTERIOR

Bureau of Land Management

[A2407-014-004-065516, #O2509-014-004-125222]

Notice of Intent To Revise Resource Management Plans for Northwestern and Coastal Oregon and Southwestern Oregon in Oregon/Washington and Prepare an Associated Environmental Impact Statement

AGENCY: Bureau of Land Management, Interior.

ACTION: Notice of intent.

SUMMARY: In support of the Oregon and California Revested Railroad Lands Act of 1937 (O&C Act), in compliance with the National Environmental Policy Act of 1969, as amended (NEPA), and the Federal Land Policy and Management Act of 1976, as amended, the Bureau of Land Management (BLM) Oregon/Washington (OR/WA) State Office intends to prepare a revision of the Northwestern and Coastal Oregon Resource Management Plan and Southwestern Oregon Resource Management Plan (hereafter, the RMPs) with an associated environmental analysis. The magnitude of unprecedented and destructive wildfires and other threats to forest health over the last decade, approaches to management (including the barred owl management), and severely reduced timber production compared to historically higher levels (and its resulting adverse economic consequences) merit consideration in an RMP revision. This notice announces the beginning of the scoping period to solicit public comments and identify issues, provide planning criteria for public review, and seek comment on current and future land use designations in the planning areas. The RMP revisions would replace the existing RMPs.

DATES: To be considered, comments concerning the scope of the analysis, potential alternatives and identification of relevant information, studies, and ACEC nominations must be received by March 23, 2026.

ADDRESSES: You must submit comments on issues and planning criteria related to this planning effort by any of the following methods:

• Website: https://eplanning.blm.gov, Project Number DOI-BLM-ORWA-0000-2026-0001-RMP-EIS.

• Email: BLM_OR_Revision_Scoping@blm.gov.

• Mail: Attention BLM OR930: 1220 SW 3rd Ave, Portland OR 97204.

Documents pertinent to this proposal may be examined online at https://eplanning.blm.gov and at the BLM Oregon/Washington Portland State Office.

FOR FURTHER INFORMATION CONTACT: Elizabeth Burghard, Medford District Manager, Bureau of Land Management Oregon/Washington Portland State Office, telephone (503) 808-6056; address 1220 SW 3rd Ave, Portland, OR 97204; email BLM_OR_Revision_Scoping@blm.gov. Individuals in the United States who are deaf, deafblind, hard of hearing, or have a speech disability may dial 711 (TTY, TDD, or TeleBraille) to access telecommunications relay services for contacting the Portland State Office. Individuals outside the United States should use the relay services offered within their country to make international calls to the point-of-contact in the United States.

SUPPLEMENTARY INFORMATION: The planning area is located in Benton, Clackamas, Columbia, Coos, Curry, Douglas, Klamath, Lane, Lincoln, Jackson, Josephine, Marion, Multnomah, Polk, Tillamook, Washington, and Yamhill Counties in Oregon and encompasses approximately 2,460,000 acres of public land, most of which are Revested Oregon and California Railroad (O&C) lands, or Reconveyed Coos Bay Wagon Road (CBWR) lands, and are managed under the statutory authority of the Oregon and California Revested Railroad Lands Act of 1937 (O&C Act, Pub. L. 75-405). The BLM-administered lands are within the Coos Bay, Medford, Northwest Oregon, and Roseburg Districts, and the Klamath Falls Field Office of the Lakeview District.

Purpose and Need

The purpose of the RMP revision is to seek an increase in sustained yield of timber harvest that aligns with the historically higher levels of production on BLM-administered public lands governed by the O&C Act and contribute to one of the six principal or major uses of the public lands identified in the Federal Land Policy and Management Act of 1976, which recognizes “the Nation's need for domestic sources of timber and fiber.” The need for this RMP revision is established by the requirements of the O&C Act to determine the productive capacity of O&C timberlands, declare the allowable sale quantity and offer it for sale annually and consider information in the period following adoption of the 1994 Northwest Forest Plan, during which time timber production substantially decreased compared to historically higher levels, with a corresponding decrease in economic output. During this time local businesses and counties have experienced unpredictability and a significant decrease in revenue, lost businesses, and faced economic difficulty. Moreover, counties entitled to timber revenue sharing payments under the O&C Act and Coos Bay Wagon Road Act of 1939 have faced declining revenue payments as a result of policy decisions that have reduced allowable timber harvest on these lands. Through this planning effort, the BLM seeks to lawfully address these longstanding issues and increase revenue from these lands, which pursuant to the O&C Act are shared with rural counties and support essential services, such as roads, schools and law enforcement.

Historic timber harvests on the BLM's Western Oregon O&C and CBWR lands were robust through the 1960s and 1970s, with annual volumes often exceeding one billion board feet. Harvests peaked in 1964 at approximately 1.638 billion board feet and averaged about 1.078 billion board feet annually from 1960 through 1989, prior to the Northern Spotted Owl listing. Following the 1990 listing, harvests fell sharply—from 704 MMbf in 1990 to under 100 MMbf by 1994 and have remained far below historic levels. Post-2000 volumes stabilized at modest levels, generally between 45 and 275 MMbf, with recent years showing slight increases, including 267 MMbf in 2025. These trends reflect a long-term shift from high-yield timber production to constrained harvests under modern conservation policies, marking a structural change in resource management and revenue patterns for Western Oregon counties.

As noted, the listing of the Northern Spotted Owl (1990) and Marbled Murrelet (1992) under the Endangered Species Act (ESA) drastically reduced timber harvests on O&C lands, severely reducing county timber receipts from over $109 million in 1989 to just $21 million by 1995. This revenue collapse triggered mill closures, job losses, and shrinking tax bases, devastating local communities and forcing counties to cut services and raise local taxes. Federal relief measures, including “Spotted Owl Safety Net” payments (1993) and the Secure Rural Schools Act (2000), temporarily stabilized funding, peaking at $116.1 million in 2006 before declining to $18.8 million by 2016, as a result of declining payments from subsequent renewals, and reduced harvest limits resulting in recent payments around $25-$30 million, still far below pre-ESA highs. The BLM's 2016 Western Oregon RMPs restricted harvest limits with recent payments.

Further, the BLM seeks to enhance its ability to implement forest treatments to mitigate the devastating effects of wildfire and to salvage timber killed by wildfire, drought, and other disturbances. Between 2000 and 2024, the U.S. averaged 7.3 million acres burned annually (https://www.nifc.gov). On BLM-managed lands, wildfire burned an average of 236,530 acres of forest annually between 2009 and 2024. High-profile events such as the 2018 Camp Fire in California—which burned 153,336 acres (including 4,070 acres of BLM land), resulted in 85 fatalities, and caused billions of dollars in damages—highlight the urgent need for proactive management. Between January 1, 2025, and November 28, 2025, 4,927,904 acres burned due to wildfires on federal land. This RMP revision will assist in reducing fuel loads in order to battle these unprecedented and destructive fires and will aid in keeping the American people safe.

The need for the RMP revision is further established by Executive Order (E.O.) 14223, Addressing the Threat to National Security From Imports of Timber, Lumber, and Their Derivative Products and E.O. 14225, Immediate Expansion of American Timber Production. Through this planning effort, the BLM will also consider information relating to the invasive barred owl and management strategy to address threats to the northern spotted owl.

Preliminary Action Alternatives

In addition to the no action alternative, BLM has developed a preliminary alternative that would meet the purpose of providing an increase in timber harvest levels of production to align with historically higher levels of volume on BLM-administered public lands in the decision area. The preliminary alternative would manage BLM-administered lands to provide a sustained yield of timber production consistent with the maximum productive capacity of the lands.

Under all action alternatives, the BLM would reserve from sustained-yield timber harvest all Congressionally designated lands (lands designated by Congress for purposes other than sustained yield timber production) (approximately 4 percent of the decision area); lands not capable of supporting sustained-yield timber production, including non-forest lands (approximately 13 percent of the decision area); and streamside buffers ranging from 25 to 100 feet, depending on stream type, to comply with the Clean Water Act (approximately 6 percent of the decision area).

The BLM welcomes comments on preliminary alternatives and suggestions for additional alternatives.

Planning Criteria

The planning criteria guide the planning effort and lay the groundwork for effects analysis by identifying the preliminary issues and their analytical frameworks. The BLM has identified preliminary issues for this planning effort's analysis related to sustained-yield timber harvest as required by the O&C Act, ACECs, air quality, botany, cultural resources, fire and fuels management, fisheries, forest management, hydrology, invasive species, lands and realty, lands with wilderness characteristics, livestock grazing, minerals, National Trail System, recreation, socioeconomics, soils, Tribal interests, visual resources, wild horse, wildlife, and Wild and Scenic Rivers. The planning criteria are available for public review and comment at the ePlanning website (see ADDRESSES).

Summary of Expected Impacts

The preliminary alternatives would result in a range of outcomes related to timber harvest, fire hazard, and wildlife habitat. As a result of these changes, the BLM will declare a new allowable sale quantity of timber.

Public Scoping Process

This notice of intent initiates the scoping period and public review of the planning criteria, which guide the development and analysis of the Draft RMP/EIS.

The BLM does not intend to hold any public meetings during the public scoping period. Should the BLM later determine to hold public meetings, the specific date and location of any meeting will be announced at least 15 days in advance through the project ePlanning page (see ADDRESSES). The BLM will provide additional opportunities for public participation consistent with the NEPA and land use planning requirements, refer to the project ePlanning page for updates (see ADDRESSES).

ACECs

The following ACECs are currently designated in the planning area: Baker Cypress, Bear Gulch RNA, Beatty Creek RNA, Beaver Creek, Bobby Creek RNA, Brewer Spruce RNA, Bumpheads, Bushnell-Irwin Rocks RNA, Callahan Meadows RNA, Cobleigh Road, Crabtree Complex RNA, Dakubetede, Deer Creek, East Fork, East Fork Whiskey Creek RNA, Eight Dollar Mountain, Elk Creek, Esmond Lake, Ferguson Creek, Forest Peak RNA, Fox Hollow RNA, French Flat, Garoutte Prairie, Glades RNA, Grandmother's Grove, Grass Mountain RNA, Grassy Mountain, Grayback, Grayback Glades RNA, Green Springs Mountain Scenic, Heceta Sand Dunes, High Peak—Moon Creek RNA, Hole-In-The-Rock, Holton Creek RNA, Horse Rock Ridge RNA, Hoxie Creek, Hult Marsh, Iron Creek, Jordan Creek, King Mountain Rock Garden, Lake Creek Falls, Little North Fork Wilson River, Little Sink RNA, Lorane Ponderosa Pine, Lost Lake RNA, Lost Prairie, Low Elevation Headwaters of the McKenzie River, Lower Scappoose Eagle, Mary's Peak ONA, McCully Mountain, McGowan Meadow, Middle Santiam Terrace, Mill Creek Ridge, Mohawk RNA, Molalla Meadows, Moon Prairie, Myrtle Island RNA, Nails Creek, Nestucca River, North Bank, North Fork Silver Creek RNA, North Myrtle Creek RNA, Oak and Pine Area, Oak Basin Prairies, Old Baldy RNA, Pickett Creek, Pipe Fork RNA, Poverty Flat, Red Ponds RNA, Reeves Creek, Rickreall Ridge, Rough and Ready, Round Top Butte RNA, Saddle Bag Mountain RNA, Sandy River ONA, Silt Creek, Snow Peak, Soosap Meadows, Spencer Creek, Sterling Mine Ditch, Surveyor, Table Rocks, Tater Hill RNA, The Butte RNA, Tin Cup, Tunnel Creek, Upper Elk Meadows RNA, Upper Klamath River, Upper Klamath River Addition, Upper Willamette Valley Margin, Valley of the Giants, Waldo-Takilma, Walker Flat, Waterloo, Whiskey Creek RNA, White Rock Fen, Wilhoit Springs, Willamette Valley Prairie, Williams Lake, Woodcock Bog RNA, Yainax Butte, Yaquina Head ONA, and Yellowstone Creek. Information about each existing ACEC, including the size, relevant and important values, etc., is available online on the project ePlanning page (see ADDRESSES). The BLM will reevaluate these designated ACECs for consideration in the Draft RMP/EIS. The BLM will evaluate nominated ACECs for consideration in the Draft RMP/EIS. To assist the BLM in evaluating nominations for consideration in the Draft RMP/EIS, you must provide supporting descriptive materials, maps, and evidence of the relevance and importance of resources or hazards by the close of the public comment period. The BLM has identified the anticipated issues related to the consideration of ACECs in the planning criteria.

Responsible Official

The Oregon and Washington State Director is the deciding official for this planning effort.

Nature of Decision To Be Made

The nature of the decision to be made will be the State Director's selection of land use planning decisions pursuant to this RMP revision for managing BLM-administered lands under the O&C Act (Pub. L. 75-405) and other applicable laws in a manner that best addresses the purpose and need.

Interdisciplinary Team

The BLM will use an interdisciplinary approach to develop the plan revision in order to consider the variety of resource issues and concerns identified. Specialists with expertise in the following disciplines will be involved in this planning effort: forest management, fuels, geographic information systems, fisheries, and wildlife.

Additional Information

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan revision will assist the BLM in identifying and evaluating impacts to such resources.

The BLM will consult with Indian Tribal Nations on a government-to-government basis in accordance with Executive Order 13175, BLM MS 1780 and other Departmental policies and laws. Tribal concerns, including impacts on Indian trust assets and potential impacts to cultural resources, will be given due consideration. Federal, State, and local agencies, along with Indian Tribal Nations, and stakeholders that may be interested in or affected by the proposed RMP revision that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 43 CFR 1610.2)

Kimberly Prill,
BLM Oregon and Washington State Director (Acting).

[FR Doc. 2026-03290 Filed 2-18-26; 8:45 am]

BILLING CODE 4331-24-P